FEDERAL COMMUNICATIONS COMMISSION

47 CFR Part 73

[DA 03-2715; MB Docket No. 03-119; RM-10694]

Radio Broadcasting Services; Savannah, Springfield & Tybee Island, GA

AGENCY: Federal Communications Commission.

ACTION: Final rule.

SUMMARY: This document substitutes Channel 280C2 for Channel 280C3 at Springfield, Georgia, reallots Channel 280C2 to Tybee Island, Georgia, and modifies the license for Station WSIS and reallots Channel 226C1 from Savannah, Georgia, to Springfield, Georgia, modifying the license for Station WEAS to specify operation at Springfield, in response to a petition filed by Cumulus Licensing Corp. See 68 FR 33668, June 5, 2003. The coordinates for Channel 280C2 at Tybee Island are 32-00-45 and 80-50-44. The coordinates for Channel 226C1 at Springfield are 32-02-48 and 81-20-27. With this action, this proceeding is terminated.

DATES: Effective October 20, 2003.

FOR FURTHER INFORMATION CONTACT: Kathleen Scheuerle, Media Bureau, (202) 418-2180

SUPPLEMENTARY INFORMATION: This is a summary of the Commission's Report and order, MB Docket No. 03-119, adopted September 3, 2003, and released September 5, 2003. The full text of this Commission decision is available for inspection and copying during regular business hours in the FCC's Reference Information Center, Portals II, 445 12th Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Georgia, is amended by removing Channel 280A and by adding Channel 226C1 at Springfield, by removing Channel 226C1 at Savannah, and by adding Tybee Island, Channel 280C2.

Federal Communications Commission.
John A. Karousos,
Assistant Chief, Audio Division, Media Bureau.

[FR Doc. 03-23923 Filed 9-18-03; 8:45 am]

BILLING CODE 6712-01-P